ENVIRONMENTAL PROTECTION AGENCY

[OPP-00660; FRL-6559-6]

FIFRA Scientific Advisory Panel; Notice of Public Meeting

AGENCY: Environmental Protection Agency (EPA).

ACTION: Notice.

SUMMARY: There will be a 2-day meeting of the Federal Insecticide, Fungicide, and Rodenticide Act (FIFRA) and Food Quality Protection Act (FQPA) Scientific Advisory Panel (SAP) to review the following set of scientific issues being considered by the Agency pertaining to Consultation: National Drinking Water Survey Design for Assessing Chronic Exposure and Mammalian Toxicity Assessment Guidelines for Protein Plant-Pesticides. The meeting is open to the public. Seating at the meeting will be on a first-come basis. Individuals requiring special accommodations at this meeting, including wheelchair access, should contact Larry Dorsey or Paul Lewis at the address listed under FOR FURTHER INFORMATION CONTACT at least 5 business days prior to the meeting so that appropriate arrangements can be made.

DATES: The meeting will be held on Tuesday, June 6 and Wednesday, June 7, 2000, from 8:30 a.m. to 4:30 p.m.

ADDRESSES: The meeting will be held at Sheraton Crystal City Hotel, 1800 Jefferson Davis Highway, Arlington, VA. The telephone number for the Sheraton hotel is: (703) 486-1111.

Requests to participate may be submitted by mail, electronically, or in person. Please follow the detailed instructions for each method as provided in Unit III. of the SUPPLEMENTARY INFORMATION. To ensure proper receipt by EPA, your request must identify docket control number OPP-00660 in the subject line on the first page of your response.

FOR FURTHER INFORMATION CONTACT: Larry Dorsey or Paul Lewis, Designated Federal Officials, FIFRA SAP (7101C), Office of Science Coordination and Policy, Environmental Protection Agency, Ariel Rios Bldg., 1200 Pennsylvania Ave., NW., Washington, DC 20460; telephone number: (703) 305-5369; fax number: (703) 605-0656; e-mail address: dorsey.larry or lewis.paul@epa.gov.

SUPPLEMENTARY INFORMATION:

I. Does this Action Apply to Me?

This action is directed to the public in general. This action may, however, be of interest to those persons who are or may be required to conduct testing of chemical substances under the Food Quality Protection Act (FQPA) or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT. This 2-day meeting concerns several scientific issues undergoing consideration within the EPA Office of Pesticide Programs (OPP). The topics to be discussed are the following:

Session 1—Under the FQPA, drinking water is considered in aggregate exposure asssesements for pesticide tolerance reassessments. Since targeted monitoring data are needed for refined exposure assessments, OPP has proposed a design framework for assessing annual average pesticide concentrations in surface waters used as drinking water. Details of survey design issues and options will be presented on OPP's proposed design framework and on an independently proposed design framework.

Session 2—For this session, the Agency is soliciting guidance from the Panel on the assessment of the potential mammalian toxicity of proteins expressed as plant-pesticides. Questions will be presented on the use of animo acid homology with known toxins, in-vitro digestibility, dietary exposure, mechanisms of toxicity and other topics regarding the assessment of introduced proteins for potential mammalian toxicity.

Copies of the Panel's report of their recommendations will be available approximately 45 working days after the meeting and will be posted on the FIFRA SAP web site. Or, copies may be obtained by contacting the Public Information and Records Integrity Branch (PIRIB) at the address and telephone number listed below in Unit II-2.

II. How Can I Get Additional Information, Including Copies of this Document and Other Related Documents?

1. Electronically. A meeting agenda is available at present and copies of EPA background documents for the meeting will be available by middle May, 2000. You may obtain electronic copies of these documents, and certain other related documents that might be available electronically, from the FIFRA/SAP Internet Home Page at http://www.epa.gov/scipoly/sap/. To access this document, on the Home Page, select “Federal Register Notice Announcing This Meeting.” You can also go directly to the Federal Register listings at http://www.epa.gov/fedrgstr/.

2. In person. The Agency has established an administrative record for this meeting under docket control number OPP-00660. The administrative record consists of the documents specifically referenced in this notice, any public comments received during an applicable comment period, and other information related to the session topics listed under Unit I of SUPPLEMENTARY INFORMATION, including any information claimed as Confidential Business Information (CBI). This administraive record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. How Can I Request to Participate in this Meeting?

You may submit a request to participate in this meeting through the mail, in person, or electronically. Do not submit any information in your request that is considered CBI. To ensure proper receipt by EPA, it is imperative that you identify docket control number OPP-00660 in the subject line on the first page of your request. Members of the public wishing to submit comments should contact the persons listed above in FOR FURTHER INFORMATION CONTACT to confirm that the meeting date and the agenda have not been modified or changed.

Interested persons are permitted to file written statements before the meeting. To the extent that time permits, and upon advanced written request to the persons listed above in FOR FURTHER INFORMATION CONTACT, interested persons may be permitted by the Chair of the FIFRA SAP to present oral statements at the meeting. The request should identify the name of the individual making the presentation, the organization (if any) the individual will represent, and any requirements for audiovisual equipment (e.g., overhead projector, 35mm projector, chalkboard, etc.) There is no limit on the length of written comments for consideration by the Panel, but oral statements before the Panel are limited to approximately 5 minutes. The Agency also urges the public to submit written comments in lieu of oral presentations. Persons wishing to make oral or written statements at the meeting should contact the persons listed above in FOR FURTHER INFORMATION CONTACT and submit 30 copies of their presentation and/or remarks to the Panel. The Agency encourages that written statements be submitted before the meeting to provide Panel Members the time necessary to consider and review the comments.

1. By mail. You may submit a request to: Public Information and Records Integrity Branch (PIRIB), Information Resources and Services Division (7502C), Office of Pesticide Programs (OPP), Environmental Protection Agency, Ariel Rios Bldg., 1200 Pennsylvania Ave., NW., Washington, DC 20460.

2. In person or by courier. Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your request electronically by e-mail to: “opp-docket@epa.gov.” Do not submit any information electronically that you consider to be CBI. Use WordPerfect 6.1/8.0 or ASCII file format and avoid the use of special characters and any form of encryption. Be sure to identify by docket control number OPP-00660. You may also file a request online at many Federal Depository Libraries.

List of Subjects

Environmental protection.

Dated: May 11, 2000.
Martha Shimkin,
Acting Director, Office of Science Coordination and Policy.

[FR Doc. 00-12378 Filed 5-16-00; 8:45 am]

BILLING CODE 6560-50-F